DEPARTMENT OF TRANSPORTATION

Surface Transportation Board

[STB Docket No. AB-33 (Sub-No. 280X); STB Docket No. AB-1038X); STB Docket No. AB-546X]

Union Pacific Railroad Company—Abandonment Exemption and Discontinuance of Service—in Tarrant County, TX; Fort Worth and Dallas Belt Railroad Company—Discontinuance of Service—in Tarrant County, TX; Fort Worth and Western Railroad Company—Discontinuance of Service—in Tarrant County, TX

On August 7, 2009, Union Pacific Railroad Company (UP), Fort Worth and Dallas Belt Railroad Company (FWDB), and Fort Worth and Western Railroad Company (FWWR) (collectively, petitioners) jointly filed with the Surface Transportation Board (Board) a petition under 49 U.S.C. 10502 for exemption from the provisions of 49 U.S.C. 10903 to permit: (1) UP to abandon and discontinue service over a segment of its North Fort Worth Branch line of railroad between milepost 633.02 and milepost 634.25, a distance of approximately 1.23 miles in Tarrant County, TX; (2) FWDB to discontinue operations over the subject line segment; ¹ and (3) FWWR to discontinue overhead and local trackage rights over the subject line segment.² The line traverses United States Postal Service Zip Code 76106.³

¹ FWDB operates the line pursuant to a lease with UP. See Fort Worth and Dallas Belt Railroad-Acquisition and Operation Exemption-Certain Lines of St. Louis Southwestern Railway Company, Finance Docket No. 32514 (ICC served June 22, 1994).

² FWDB, a corporate affiliate of FWWR, granted FWWR these trackage rights. See Forth Worth & Western Railroad Company-Trackage Rights Exemption-Forth Worth and Dallas Belt Railroad Company, Finance Docket No. 32590, (ICC served Nov. 10, 1994).

³ Petitioners state that the lease and trackage rights will remain in full force and effect for the remainder of the North Fort Worth Branch.

In addition to an exemption from the prior approval requirements of 49 U.S.C. 10903, petitioners seek exemption from 49 U.S.C. 10904 (offer of financial assistance procedures) and 49 U.S.C. 10905 (public use conditions). Petitioners also seek relief from the trail use provisions of the Board's regulations at 49 CFR 1152.29. In support, petitioners state that the sole purpose of their joint petition is to allow the proposed acquisition of the right-of-way associated with the line segment by the Tarrant Regional Water District for a public flood control and redevelopment project in the north downtown area of Forth Worth, TX, commonly known at the Trinity Uptown Project. These requests will be addressed in the final decision.

The line does not contain federally granted rights-of-way. Any documentation in petitioners' possession will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by November 25, 2009.

Any offer of financial assistance (OFA) under 49 CFR 1152.27(b)(2), will be due no later than 10 days after service of a decision granting the petition for exemption. Each OFA must be accompanied by a $1,500 filing fee. See CFR 1002.2(f)(25).

All interested persons should be aware that, following abandonment of rail service and salvage of the line, the line may be suitable for other public use, including interim trail use. Any request for a public use condition under 49 CFR 1152.28 or for trail use/rail banking under 49 CFR 1152.29 will be due no later than September 16, 2009. Each trail use request must be accompanied by a $200 filing fee. See 49 CFR 1002.2(f)(27).

All filings in response to this notice must refer to STB Docket No. AB-33 (Sub-No 280X), STB Docket No. 1038X), and STB Docket No.546X, and must be sent to: (1) Surface Transportation Board, 395 E Street, SW., Washington, DC 20423-0001; and (2) Mack H. Shumate, Jr., 101 North Wacker Drive, Room 1920, Chicago, IL 60606, and Paul H. Lamboley, Bank of America Plaza, 50 W. Liberty Street, Suite #645, Reno, NV 89501. Replies to the petition are due on or before September 16, 2009.

Persons seeking further information concerning abandonment or discontinuance procedures may contact the Board's Office of Public Assistance, Governmental Affairs, and Compliance at (202) 245-0238 or refer to the full abandonment or discontinuance regulations at 49 CFR part 1152. Questions concerning environmental issues may be directed to the Board's Section of Environmental Analysis (SEA) at (202) 245-0305. Assistance for the hearing impaired is available through the Federal Information Relay Service (FIRS) at 1-800-877-8339.

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: August 24, 2009.
By the Board, Joseph H. Dettmar, Acting Director, Office of Proceedings.
Jeffrey Herzig,
Clearance Clerk.

[FR Doc. E9-20743 Filed 8-26-09; 8:45 am]

BILLING CODE 4915-01-P